DEPARTMENT OF TRANSPORTATION

Federal Aviation Administration

14 CFR Part 39

[Docket No. 99-SW-80-AD]

RIN 2120-AA64

Airworthiness Directives; Bell Helicopter Textron Canada Model 206L, L-1, L-3 and L-4 Helicopters

AGENCY: Federal Aviation Administration, DOT.

ACTION: Supplemental notice of proposed rulemaking; reopening of comment period.

SUMMARY: This document revises an earlier proposed superseding airworthiness directive (AD) for the specified Bell Helicopter Textron Canada (BHTC) helicopters. That proposal would have required inspecting the tailboom skins for a crack, replacing a cracked tailboom with a modified tailboom before further flight, and implementing a recurring inspection of the modified tailboom. That proposal was prompted by several reports of cracks found during mandatory inspections. This supplemental notice of proposed rulemaking (SNPRM) renews and revises the proposal by providing a terminating action, incorporating a more recent revision to the alert service bulletin (ASB), and increasing the compliance time for performing the inspections. The actions specified by this proposal are intended to detect a crack in the tailboom and to prevent separation of the tailboom from the helicopter and subsequent loss of control of the helicopter.

DATES: Comments must be received on or before September 23, 2002.

ADDRESSES: Submit comments in triplicate to the Federal Aviation Administration (FAA), Office of the Regional Counsel, Southwest Region, Attention: Rules Docket No. 99-SW-80-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 99-SW-80-AD.” The postcard will be date stamped and returned to the commenter.

Discussion

A proposal to amend 14 CFR part 39 to add an AD for certain BHTC helicopters was published as a Notice of Proposed Rulemaking (NPRM) in the Federal Register on April 19, 2000 (65 FR 20927). That NPRM proposed inspecting the tailboom skins for a crack; replacing any cracked tailboom with an airworthy modified tailboom; modifying the tailboom within the next 300 hours time-in-service (TIS); and inspecting the modified tailboom for a crack at intervals not to exceed 1200 hours TIS. That NPRM was prompted by several reports of cracked tailbooms found during mandatory inspections. That condition, if not corrected, could result in separation of the tailboom from the helicopter and subsequent loss of control of the helicopter.

Since issuing that NPRM, the FAA has received comments from two commenters, the manufacturer and an operator, requesting changes to the proposed actions. We have considered all these comments.

Both commenters state that the proposed compliance time for modifying the tailboom within 300 hours TIS should be increased to 600 hours TIS or no later than December 31, 2000, whichever occurs first, to coincide with the compliance times in the applicable ASB. The commenters state that changing the compliance time would give the manufacturer time to deliver the required secondary parts to modify the tailboom and eliminate considerable replanning by operators of their maintenance programs. Also, the commenters state that the repetitive inspections required before modifying the tailboom will ensure safety until the modification is done.

The FAA agrees with the comments, however, the December 31, 2000, date has passed. Further, since publication of the NPRM, the manufacturer has revised their ASB and changed the compliance time to March 31, 2002. That date has also passed. Because of these delays, we have reevaluated the need for modifying the tailboom within 300 hours time-in-service (TIS). We now believe that a compliance time of 600 hours TIS is sufficient to meet our safety objectives.

One commenter states that the compliance time should change because a redesigned tailboom, part number (P/N) 206-033-004-181, is now manufactured with the required skin doubler hot-bonded in place. The FAA agrees and will add a statement in the proposal that installing an airworthy, redesigned tailboom, P/N 206-033-004-181, is terminating action for the requirements of the AD.

Another commenter states that the AD should inform operators that modifying the tailboom in accordance with earlier versions of the referenced ASB is acceptable (the proposal referenced Revision D of BHTC ASB 206L-99-115). The FAA agrees because changes to the original ASB are minor and do not change or compromise the previous engineering approval. Therefore, the proposal will include a note stating that modifying the tailboom in accordance with earlier versions of the referenced ASB is acceptable.

Finally, a commenter advised us that the phone and fax numbers listed for obtaining service information is incorrect; we have corrected those numbers in this proposal.

Since these changes expand the scope of the originally proposed rule and the previous NPRM has been published for more than 2 years, the FAA has determined that it is necessary to reopen the comment period to provide additional opportunity for public comment.

The FAA estimates that this proposed AD would affect 1546 helicopters of U.S. registry. The FAA also estimates that this proposed AD would require 52 work hours to accomplish the proposed actions, an average labor rate of $60 per work hour, and $22,954 for parts. Based on these figures, the total cost impact of the proposed AD on U.S. operators is estimated to be $40,310,404, assuming all the tailbooms are replaced.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron Canada: Docket No. 99-SW-80-AD. Supersedes AD 99-13-12, Amendment 39-11207, Docket No. 99-SW-23-AD.

Applicability: Model 206L helicopters, serial numbers (S/N) 45004 through 45049, 45051 through 45153, and 46601 through 46617; Model 206L-1 helicopters, S/N 45154 through 45790; Model 206L-3 helicopters, S/N 51001 through 51612; and Model 206L-4 helicopters, S/N 52001 through 52163, 52165 through 52212, and 52214 through 52216, with tailboom, part number (P/N) 206-033-004-all dash numbers, except P/N 206-033-004-181, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (i) of this AD. The request should include an assessment of the effect of the modification, alteration, or repair on the unsafe condition addressed by this AD; and if the unsafe condition has not been eliminated, the request should include specific proposed actions to address it.

Compliance: Required as indicated, unless accomplished previously.

To detect a crack in the tailboom skin and to prevent separation of the tailboom from the helicopter and subsequent loss of control of the helicopter, accomplish the following:

(a) Before further flight and thereafter at intervals not to exceed 10 hours time-in-service (TIS) until accomplishing a one-time fluorescent-penetrant inspection (FPI) required by paragraph (c)(2) of this AD, visually inspect for a crack in the tailboom using a 10-power or higher magnifying glass in the shaded areas as depicted in Figure 1 of this AD:

BILLING CODE 4910-13-P

BILLING CODE 4910-13-C

(b) At intervals not to exceed 5 hours TIS, visually check for a crack in the tailboom in the shaded areas as depicted in Figure 1 of this AD. The visual check may be performed by an owner/operator (pilot) holding at least a private pilot certificate and must be entered into the helicopter records showing compliance with this paragraph in accordance with 14 CFR 43.11 and 91.417(a)(2)(v).

(c) Within 50 hours TIS:

(1) Remove all four horizontal stabilizer supports, P/N 206-023-100-all dash numbers, from the tailboom and the horizontal stabilizer.

(2) Perform a one-time FPI of the edges of the tailboom skins for any crack around the left and right horizontal stabilizer openings as shown in Figure 1 of this AD. Remove paint and primer to inspect the edges and exterior skin surface in the skin area at least ¾ inch around the edges of the horizontal stabilizer openings as shown in Figure 1 of this AD.

(d) At intervals not to exceed 100 hours TIS after completing the FPI:

(1) Remove all four horizontal stabilizer supports, P/N 206-023-100-all dash numbers, from the tailboom and the horizontal stabilizer.

(2) Visually inspect the entire edge of the horizontal stabilizer opening on both sides of the tailboom for any crack using a 10-power or higher magnifying glass.

(e) Within 600 hours TIS, inspect and modify the tailboom in accordance with the Accomplishment Instructions, Parts I, II, and III of Bell Helicopter Textron Canada (BHTC) Alert Service Bulletin 206L-99-115, Revision F, dated April 14, 2001 (ASB).

(f) After modifying a tailboom in accordance with paragraph (e) of this AD or installing a tailboom modified in accordance with paragraph (e) of this AD, at intervals not to exceed 1200 hours TIS, inspect the modified tailboom in accordance with the Accomplishment Instructions, Part IV, of the ASB.

(g) If a crack is found during any check or inspection required by this AD, before further flight, replace the cracked tailboom with an airworthy tailboom modified according to the requirements of paragraph (e) of this AD or with an airworthy tailboom, P/N 206-033-004-181.

Note 2: Modifying the tailboom in accordance with revisions before Revision F of BHTC ASB 206L-99-115 is acceptable for the modifications required by paragraph (e) of this AD.

(h) Inspecting and modifying the tailboom in accordance with paragraph (e) of this AD is terminating action for the requirements of paragraphs (a) through (d) of this AD. Installing an airworthy tailboom, P/N 206-033-004-181, constitutes terminating action for the requirements of this AD.

(i) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(j) Special flight permits may be issued for a one-time flight, not to exceed 5 hours TIS and a maximum of one landing in accordance with 14 CFR 21.197 and 21.199, to operate the helicopter to a location where the requirements of this AD can be accomplished. The visual preflight check required by paragraph (b) of this AD must be accomplished before making a one-time flight.

Note 4: The subject of this AD is addressed in Transport Canada (Canada) AD CF-98-42R3, dated February 17, 2000.

Issued in Fort Worth, Texas, on August 13, 2002.
Eric Bries,
Acting Manager, Rotorcraft Directorate, Aircraft Certification Service.

[FR Doc. 02-21357 Filed 8-21-02; 8:45 am]

BILLING CODE 4910-13-P